DEPARTMENT OF THE INTERIOR

National Park Service

Submission of U.S. Nomination to the World Heritage List; Correction

AGENCY: National Park Service, Interior.

ACTION: Notice; correction.

SUMMARY: The National Park Service published a document in the Federal Register on March 23, 2022, announcing the Submission of U.S. Nomination to the World Heritage List. The document contained incorrect locations.

FOR FURTHER INFORMATION CONTACT: April Brooks, 202-354-1808.

SUPPLEMENTARY INFORMATION:

Correction

In the Federal Register of March 23, 2022, in FR Doc. 2022-06121, on page 16492, in the first column in the SUMMARY section, correct the locations to read:

Fort Ancient in Warren County and the Octagon Earthworks and Great Circle Earthworks in Licking County.

Dated: March 24, 2022.
Stephen Morris,
Chief, NPS Office of International Affairs.

[FR Doc. 2022-06650 Filed 3-29-22; 8:45 am]

BILLING CODE 4312-52-P